DEPARTMENT OF HEALTH AND HUMAN SERVICES

Health Resources and Services Administration

Statement of Delegation of Authority

Notice is hereby given that I have delegated to the Administrator, Health Resources and Services Administration (HRSA), and the Director, Centers for Disease Control and Prevention (CDC), with authority to redelegate, the authority vested in the Secretary under Title XI, Part A, Section 1114, titled “Interagency Coordinating Committee on Newborn and Child Screening (Committee),” of the Public Health Service Act as amended, which was added by the Newborn Screening Saves Lives Act of 2008, Public Law 110-237, as amended, to serve as co-chairs of the Committee, and to select additional nonvoting Federal liaisons, as appropriate.

I hereby delegate to Administrator, HRSA, and Director, CDC, the authority vested in the Secretary under Title XI, Part A, Section 1110, titled “Evaluating the Effectiveness of Newborn and Child Screening Programs,” of the Public Health Service Act, as amended. This authority may be redelegated.

This delegation excludes the authority to issue regulations, to submit reports to Congress, to establish advisory committees and councils, and appoint their members, and shall be exercised in accordance with the Department's applicable policies, procedures, and guidelines.

I hereby affirm and ratify any actions taken by the Administrator, HRSA, the Director, CDC, or other HRSA and CDC officials, which involve the exercise of these authorities prior to the effective date of this delegation.

This delegation is effective upon date of signature.

Dated: March 2, 2011.
Kathleen Sebelius,
Secretary.

[FR Doc. 2011-5334 Filed 3-8-11; 8:45 am]

BILLING CODE 4165-15-P